SECURITIES AND EXCHANGE COMMISSION

[Securities Exchange Act of 1934; Rel. No. 44916/October 10, 2001]

Order Regarding Government Securities Reconciliations

Section 36 of the Securities Exchange Act of 1934 (“Exchange Act”) authorizes the Commission, by rule, regulation, or order, to conditionally or unconditionally exempt any person, security, or transaction, or any class or classes of persons, securities, or transactions, from any provision or provisions of the Exchange Act or any rule or regulation thereunder, to the extent that such exemption is necessary or appropriate in the public interest, and is consistent with the protection of investors. In light of the events of September 11, 2001, the Commission has determined to provide broker-dealers with further relief under Exchange Act Rules 15c3-1 and 15c3-3 to facilitate the orderly reconciliation of transactions in government securities. Accordingly,

It is ordered, pursuant to Section 36 of the Exchange Act, that, Broker-dealers need not consider the days October 6, 2001 through October 19, 2001, inclusive, as business or calendar days for purposes of taking deductions, when computing net capital under Rule 15c3-1 or for purposes of determining the amount of cash and/or qualified securities required to be maintained in a “Special Reserve Bank Account for the Exclusive Benefit of Customers” in accordance with the formula set forth in Exhibit A to Rule 15c3-3 arising from aged fail transactions in government securities and unresolved reconciliation differences with accounts or clearing corporations or depositories involving government securities.

By the Commission.
Margaret H. McFarland,
Deputy Secretary.

[FR Doc. 01-25956 Filed 10-15-01; 8:45 am]

BILLING CODE 8010-01-M